Title 3—

The President

Presidential Determination No. 2019-22 of August 8, 2019

Presidential Determination on Major Drug Transit or Major Illicit Drug Producing Countries for Fiscal Year 2020

Memorandum for the Secretary of State

By the authority vested in me as President by the Constitution and the laws of the United States, including section 706(1) of the Foreign Relations Authorization Act, Fiscal Year 2003 (Public Law 107-228) (FRAA), I hereby identify the following countries as major drug transit or major illicit drug producing countries: Afghanistan, The Bahamas, Belize, Bolivia, Burma, Colombia, Costa Rica, Dominican Republic, Ecuador, El Salvador, Guatemala, Haiti, Honduras, India, Jamaica, Laos, Mexico, Nicaragua, Pakistan, Panama, Peru, and Venezuela.

A country's presence on the foregoing list is not necessarily a reflection of its government's counternarcotics efforts or level of cooperation with the United States. Consistent with the statutory definition of a major drug transit or major illicit drug producing country set forth in section 481(e)(2) and (5) of the Foreign Assistance Act of 1961, as amended (Public Law 87-195)(FAA), the reason countries are placed on the list is the combination of geographic, commercial, and economic factors that allow drugs to transit or be produced, even if a government has engaged in robust and diligent narcotics control measures.

Pursuant to section 706(2)(A) of the FRAA, I hereby designate Bolivia and the illegitimate regime of Nicolas Maduro in Venezuela as having failed demonstrably during the previous 12 months to adhere to their obligations under international counternarcotics agreements and to take the measures required by section 489(a)(1) of the FAA. Included with this determination are justifications for the designations of Bolivia and the Maduro regime, as required by section 706(2)(B) of the FRAA. I have also determined, in accordance with provisions of section 706(3)(A) of the FRAA, that United States programs that support the legitimate interim government in Venezuela are vital to the national interests of the United States.

My Administration has devoted unprecedented resources to combating the scourge of illicit drugs in the United States, including by strengthening our country's borders and expanding programs to prevent illicit drug use and aid the recovery and treatment of those who need it. We are making steady progress to turn the tide of our country's drug epidemic, but more needs to be accomplished. This includes further efforts beyond our Nation's borders, by governments of countries where dangerous illegal drugs originate.

In Colombia, President Ivan Duque has made early progress in rolling back the record-high coca cultivation and cocaine production levels inherited from his predecessor and in leading efforts to restart a Colombian-led aerial eradication program. This progress needs to continue and expand, and my Administration will work with our Colombian partners to reach our joint 5-year goal to reduce coca cultivation and cocaine production by half by the end of 2023. We will also continue to coordinate closely with Colombia and other like-minded partners in our hemisphere to restore democracy in Venezuela. With the end of the Maduro dictatorship rife with criminal elements, the United States will have a much better opportunity to work with Venezuela to stem the flow of drugs leaving South America.

Along our southern border, Mexico needs to do more to stop the flow of deadly drugs entering our country. We need the Mexican government to intensify its efforts to increase poppy eradication, illicit drug interdiction, prosecutions, and asset seizures, and to develop a comprehensive drug control strategy. In particular, Mexico's full cooperation is essential to reduce heroin production and confront illicit fentanyl production and every form of drug trafficking, including through United States ports of entry.

Many Mexican military and law enforcement professionals, in cooperation with their United States counterparts, are bravely meeting this challenge and confronting the transnational criminal organizations that threaten both of our countries. We need to see a sustained and unified commitment from Mexican government officials across military and civilian agencies and working with foreign partners. Without further progress over the coming year, I will consider determining that Mexico has failed demonstrably to uphold its international drug control commitments.

You are authorized and directed to submit this designation, with the Bolivia and Venezuela memoranda of justification, under section 706 of the FRAA, to the Congress, and to publish it in the Federal Register.

THE WHITE HOUSE,

Washington, August 8, 2019

[FR Doc. 2019-18595

Filed 8-26-19; 8:45 am]

Billing code 4710-10-P